DEPARTMENT OF COMMERCE

National Ocean and Atmospheric Administration

Proposed Information Collection; Comment Request; Regional Economic Data Collection Program for Southwest Alaska

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 4, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Chang Seung, (206) 526-4250 or Chang.Seung@noaa.gov.

SUPPLEMENTARY INFORMATION:

I. Abstract

This request is for a new information collection.

Regional or community economic analysis of proposed fishery management policies is required by the Magnuson-Stevens Fishery Conservation and Management Act, National Environmental Policy Act, and Executive Order 12866, among others. To satisfy these mandates and inform policymakers and the public of the likely regional economic impacts associated with fishery management policies, appropriate economic models and the data to implement them are needed. Much of the data required for regional economic analysis of Southwest Alaska fisheries are either unavailable or unreliable. Accurate fishery-level data on employment, labor income, and expenditures in the Southwest Alaska fishery and related industries are not generally available but are needed to estimate the role of fisheries and effects of fishery policies on local, regional and national economies. The Southwest region for this survey includes six boroughs and census areas (BCAs)—Aleutians East Borough, Aleutians West Census Area, Bristol Bay Borough, Dillingham Census Area, Lake and Peninsula Borough, and Kodiak Island Borough.

In 2007-2008, a similar data collection project was administered for the Southwest Alaska region by obtaining 2006 annual data. However, that data is now outdated and incomplete. In the proposed survey, 2013 or 2014 annual data for important regional economic variables will be collected from fish harvesting and seafood processing businesses operating in the region (2012 data on these variables will be collected if more recent vessel landings and processed products data are not available at the time the data collection begins). The data will be used to develop Southwest regional and BCA-level models that will provide more reliable impact estimates and significantly improve policymakers' ability to assess effects on fishery-dependent communities in Southwest Alaska. A departure from the prior survey effort is that more information will be collected this time on the source locations of business expenditures by catcher vessels and seafood processors. The survey will be conducted one time only.

A mail survey will be used to collect data on employment, labor income, and expenditures from owners of 2,731 catcher vessels whose boats delivered fish to Southwest Alaska processors. Key informant interviews will be conducted to gather additional information from 30 seafood processors, including catcher-processor and floating processor vessels, and 20 local businesses that supply inputs to regional fish harvesters and seafood processors. The interviews will be used to determine relative expenditures for inputs made in nine geographical areas—(1) each of the six BCAs within the Southwest region, (2) non-Southwest Alaska region, (3) West Coast, and (4) the rest of US and elsewhere. Personal interviews with input suppliers will gather additional information on (i) the level of supplier sales to regional seafood industry businesses, and (ii) the portion of business expenditures for labor and non-labor inputs that were made in each of the above nine geographical areas.

II. Method of Collection

Mail surveys and personal or phone interviews will be used.

III. Data

OMB Control Number: 0648-xxxx.

Form Number(s): None.

Type of Review: Regular submission (new information collection).

Affected Public: Business or other for-profit organizations.

Estimated Number of Respondents: 1,415.

Estimated Time per Response: 45 minutes.

Estimated Total Annual Burden Hours: 1,061.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 29, 2014.
Gwellnar Banks,
Management Analyst, Office of the Chief Information Officer.

[FR Doc. 2014-21125 Filed 9-4-14; 8:45 am]

BILLING CODE 3510-22-P